NATIONAL TRANSPORTATION SAFETY BOARD

Positive Train Control Public Forum

On Wednesday, February 27, 2013, the National Transportation Safety Board (NTSB) will convene a Forum titled, “Positive Train Control: Is it on Track?” The Forum will begin at 9:00 a.m. is open to all and the attendance is free (no registration required). The NTSB Chairman Deborah A.P. Hersman will serve as the presiding officer of the forum, and all five NTSB Board Members will serve as members of the Board of Inquiry. The forum is organized into three topics areas:

• PTC systems as envisioned versus what is being implemented

• Current status of PTC regulatory implementation

• Current status of PTC technical implementation

Over the past 40 years, the NTSB has investigated many train collisions and over-speed derailments caused by operational errors involving human performance failures. Many of these accidents occurred because train crews: did not comply with signal indications, did not follow operating procedures in nonsignaled (dark) territories, or did not comply with other specific operating rules such as returning track switches to normal position after completing work at railroad sidings.

The NTSB has repeatedly concluded that technological solutions, such as Positive Train Control (PTC), have great potential to reduce the number of serious train accidents by providing safety redundant systems to protect against human performance failures. Because of the NTSB's longstanding interest in this issue, the Board placed a recommendation to implement PTC on the NTSB's Most Wanted List of Transportation Safety Improvements at the inception of the list in 1990, and it remained on the list until after the Rail Safety Improvement Act of 2008 was enacted. This act requires each Class I railroad over which poison- or toxic-by-inhalation (PIH or TIH) hazardous materials are transported and each entity providing regularly scheduled intercity or commuter rail passenger transportation to implement a PTC system by December 31, 2015. The Federal Railroad Administration (FRA) finalized the rule requiring PTC in January 2010.

Legislation was proposed in Congress that would defer the Act's requirement for implementation of PTC systems. In the Senate, provisions in the Moving Ahead for Progress in the 21st Century Act (MAP‐21) proposed a year‐by‐year evaluation of PTC system waivers by the Secretary of Transportation beyond the 2015 deadline but did not extend past December 31, 2018. In the House of Representatives, provisions in the American Energy and Infrastructure Jobs Act of 2012 proposed to extend the PTC system implementation deadline until December 31, 2020. Additionally, the House bill would have enabled a railroad to use an “alternate risk-reduction strategy” in lieu of installing PTC on some nonpassenger track where PIH and TIH are transported. However, the enacted legislation MAP-21, Public Law 112-141, did not include the provisions regarding PTC.

Expert panelists will include representatives from railroads, government, industry suppliers, labor unions, and the research community. Below is the preliminary agenda:

Wednesday, February 27, 2013

1. Opening Statement by the Presiding Officer of the forum

2. Introduction of the Officers and Technical Panel

3. Introduction of the forum participants

4. Introduction of the panels

5. Closing statement by Chairman Hersman

Panel Topics

Panel 1—Positive Train Control Systems as Envisioned vs. Implemented

Panel 2—Current Status of Positive Train Control (PTC) Regulatory Implementation

Panel 3—Current Status of Positive Train Control (PTC) Technical Implementation

The full agenda and a list of participants can be found at: www.ntsb.gov/PTCforum.

The forum will be held in the NTSB Board Room and Conference Center, located at 429 L'Enfant Plaza E. SW., Washington, DC. The public can view the forum in person or by live webcast at www.ntsb.gov. Webcast archives are generally available by the end of the next day following the forum, and Webcasts are archived for a period of 3 months from after the date of the event.

Individuals requesting specific accommodations should contact Rochelle Hall at (202) 314-6305 or by email at Rochelle.Hall@nts.gov by Friday, February 22, 2013.

NTSB Media Contact: Eric Weiss—eric.weiss@ntsb.gov.

NTSB Forum Manager: Michael E. Hiller—michael.hiller@ntsb.gov.

NTSB Forum Coordinator: Jennifer Cheek—jennifer.cheek@ntsb.gov.

Dated: February 12, 2013.
Candi R. Bing,
Federal Register Liaison Officer.

[FR Doc. 2013-03604 Filed 2-14-13; 8:45 am]

BILLING CODE 7533-01-P